DEPARTMENT OF TRANSPORTATION

Federal Aviation Administration

14 CFR Parts 27 and 29

Interest in Restructure of Rotorcraft Airworthiness Standards

ACTION: Notice of Disposition of Comments.

SUMMARY: This notice disposes of public comments received by the Federal Aviation Administration (FAA) in response to a Federal Register notice published on February 22, 2013, requesting comments on a potential restructuring of the rotorcraft airworthiness standards of Title 14 of the Code of Federal Regulations (14 CFR) parts 27 (normal category rotorcraft) and 29 (transport category rotorcraft). Specifically, the agency sought comments on the necessity of updates to parts 27 and 29, including whether to change the existing weight- and seat-based applicability standards for normal and transport rotorcraft. Based on the comments received, the FAA is terminating this docket. Commenters indicated a substantial interest in revising or restructuring the certification standards for parts 27 and 29, and the FAA's Rotorcraft Directorate will begin establishing the appropriate forums to involve interested parties.

DATES: The docket is terminated as of July 31, 2014.

ADDRESSES: FAA, Rotorcraft Directorate, Regulations and Policy Group (ASW-111), 2601 Meacham Blvd., Fort Worth, Texas 76137.

FOR FURTHER INFORMATION CONTACT: FAA, Rotorcraft Directorate, Regulations and Policy Group (ASW-111), 2601 Meacham Blvd., Fort Worth, Texas 76137; telephone (817) 222-5110; facsimile (817) 222-5961. The primary contacts are: John VanHoudt (telephone: 817-222-5167, email: john.vanhoudt@faa.gov) or ASW-111 Manager Jorge R. Castillo (telephone: 817-222-5110, email: jorge.r.castillo@faa.gov).

SUPPLEMENTARY INFORMATION:

Background and Discussion

Currently, rotorcraft with a maximum weight of 7,000 pounds or less and nine passenger seats or less are certificated as normal category rotorcraft under part 27; rotorcraft with a maximum weight greater than 7,000 pounds or with 10 or more passenger seats are certificated as transport category rotorcraft under part 29.

The FAA and rotorcraft industry have discussed potential revisions to the “applicability” rules for rotorcraft certificated under parts 27 and 29 since the early 1990s. In February 1994, the FAA held a public meeting to determine a course of action in the best interest of the public and the aviation community. An Aviation Rulemaking Advisory Committee working group was established with representatives from the FAA, the Joint Aviation Authorities, and Transport Canada Civil Aviation, as well as from U.S. and European helicopter manufacturers. In February 1995, the committee established the Rotorcraft Gross Weight and Passenger Issues Working Group, and tasked the group with recommending new or revised requirements for increasing the gross weight and passenger limitations for normal category rotorcraft. There was agreement within the group to increase the gross weight limitation of part 27 from 6,000 to 7,000 pounds with added passenger safety requirements. The FAA implemented this regulatory change in a 1999 final rule (64 FR 45092, August 18, 1999).

We continue to recognize that the evolution of parts 27 and 29 has not kept pace with technology and the capability of rotorcraft produced currently. The FAA is therefore interested in investigating new approaches that would make the rotorcraft airworthiness regulations more efficient and adaptable to future technology. Additionally, the FAA has found that, without a rulemaking effort to extensively revise the rotorcraft standards, we are left with the option of issuing multiple special conditions for the same technologies.

The FAA published a Federal Register notice on February 22, 2013 (78 FR 12254), requesting comments on “Interest in Restructure of Rotorcraft Airworthiness Standards.” Specifically, we requested comment on (1) to what extent commenters believed the certification standards need to be changed in order to remain relevant; (2) whether the current standards need to be completely changed, as opposed to more targeted changes; (3) whether the applicability rules should be changed from weight- and passenger-based standards, and, if so, how; and (4) commenters' willingness to participate in a rulemaking committee. We received 48 comments to the docket number FAA-2013-0144.

Comments Summary

Of the 48 comments received, the majority were from operators and their affiliates. There were also comments from another civil aviation authority (Transport Canada Civil Aviation); various rotorcraft-affiliated organizations (including the Aerospace Industries Association, the American Helicopter Society International, the Association of Air Medical Services, the General Aviation Manufacturers Association, and Helicopter Association International); vendors and manufacturers (including Bell Helicopter, Eurocopter, and Marenco Swisshelicopter); and others. These comments indicated a substantial interest in favor of some form of revision or restructure of the rotorcraft design certification standards in parts 27 and 29 and expressed that the current regulatory scheme is outdated by technology and impedes the development of new rotorcraft models. Only three commenters stated the weight and passenger thresholds of the current regulations should remain unchanged. Most commenters recommended that the FAA approach this effort in a deliberate and methodical manner, including forming a group in coordination with industry to evaluate parts 27 and 29 and provide recommendations to the FAA prior to initiating a formal rulemaking action. Commenters also expressed a need to coordinate this effort with other civil aviation authorities. Additionally, many commenters expressed interest in participating in the process of updating the regulations.

Termination of This Docket and Future Agency Action

Based on these comments, the FAA has determined that there is sufficient interest in the rotorcraft community to pursue further collaboration towards possible revisions to parts 27 and 29. The FAA is therefore terminating this docket. The Rotorcraft Directorate will begin establishing the appropriate forum(s) and involving interested parties. The FAA will also reach out to our bilateral partners (i.e., Transport Canada Civil Aviation and the European Aviation Safety Agency) and invite their participation in this effort. Parties interested in this initiative may look forward to future public announcements on upcoming developments.

Issued in Fort Worth, TX, on July 10, 2014.
Kimberly K. Smith,
Manager, Rotorcraft Directorate, Aircraft Certification Service.

[FR Doc. 2014-16999 Filed 7-30-14; 8:45 am]

BILLING CODE 4910-13-P